DEPARTMENT OF TRANSPORTATION

Federal Aviation Administration

14 CFR Part 71

[Docket FAA 2005-20248; Airspace Docket 05-AWP-1]

Establish Class D Airspace; Front Range Airport, Denver, CO

AGENCY: Federal Aviation Administration (FAA), DOT.

ACTION: Final rule.

SUMMARY: This rule will establish Class D airspace at Front Range Airport, Denver, CO. An Airport Traffic Control Tower (ATCT) is being constructed at Front Range Airport, Denver, CO, which will meet criteria for Class D airspace. Class D airspace is required when the ATCT is open, and to contain and protect Standard Instrument Approach Procedures (SIAPs) and other Instrument Flight Rules (IFR) operations at the airport. This action would establish Class D airspace extending upward from the surface to 8,000 feet Mean Sea Level (MSL) within a 5.1 nautical mile radius of the airport.

DATES: Effective Date: 0901 UTC, August 4, 2005.

FOR FURTHER INFORMATION CONTACT: Larry Tonish, Federal Aviation Administration, Western Terminal Operations, 15000 Aviation Boulevard, Lawndale, CA 90261; telephone (310) 725-6539.

SUPPLEMENTARY INFORMATION:

History

On March 11, 2005, the FAA proposed to amend Title 14 Code of Federal Regulations part 71 (CFR part 71) to establish Class D airspace at Front Range Airport, Denver, CO, (70 FR 12161). An Airport Traffic Control Tower (ATCT) is under construction at Front Range Airport, Denver CO, which will meet criteria for Class D airspace. The Class D airspace area will be effective during periods that the ATCT is open.

Interested parties were invited to participate in this rule making proceeding by submitting written comments on the proposal to the FAA. No comments were received. Class D airspace designations are published in paragraph 5000 of FAA Order 7400.9M dated August 30, 2004, and effective September 16, 2004, which is incorporated by reference in 14 CFR part 71.1. The Class D airspace designation listed in this document will be published subsequently in that Order.

The Rule

This amendment to 14 CFR part 71 establishes Class D airspace at Front Range Airport, Denver CO. An Airport Traffic Control Tower (ATCT) is under construction at Front Range Airport, Denver, CO, which will meet criteria for Class D airspace.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air)

Adoption of the Amendment

In consideration of the foregoing, the Federal Aviation Administration amends 14 CFR Part 71 as follows:

PART 71—DESIGNATION OF CLASS A, CLASS B, CLASS C, CLASS D, AND CLASS E AIRSPACE AREAS; ROUTES; AND REPORTING POINTS.

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9M, Airspace Designations and Reporting Points, dated August 30, 2004, and effective September 16, 2004, is amended as follows:

Paragraph 5000 Class D Airspace area extending upward from the surface of the earth.

* * * * *

ANM CO D Front Range Airport, Denver, CO [NEW]

Front Range Airport, Denver, CO

(Lat 39°47′07″ N., long. 104°32′35″ W.)

That airspace extending upward from the surface of 8,000 feet MSL within a 5.1 nautical mile radius of the Front Range Airport, Denver, CO, excluding the Denver International Airport Class B. This Class D airspace area is effective during the specific days and times established in advance by the Notice to Airmen. The effective days and times will thereafter be continuously published in the Airport/Facility Directory.

* * * * *

Issued in Los Angeles, California on June 15, 2005.
Leonard A. Mobley,
Acting Area Director, Terminal Operations, Western Service Area.

[FR Doc. 05-12725 Filed 6-27-05; 8:45 am]

BILLING CODE 4910-13-M